DEPARTMENT OF HEALTH AND HUMAN SERVICES

Food and Drug Administration

Food Security and Recalls; Public Workshop

AGENCY: Food and Drug Administration, HHS.

ACTION: Notice of public workshop.

SUMMARY: The Food and Drug Administration (FDA) in cooperation with the Ohio State University, Department of Food Science and Technology is announcing a workshop for the food industry on food security and recalls. Topics for discussion include: Impact of U.S. bioterrorism legislation on the food industry, FDA and U.S. Department of Agriculture food safety and security guidance and procedures, product tampering investigations, tamper evident packaging in the food industry, preparing for and conducting a food recall, and opportunities to improve food security. This 1-day workshop is intended to target food manufacturers, repackers, and importers; and will include both industry and FDA perspectives on the prevention and handling of food security problems.

Date and Time: The public workshop will be held on Tuesday, November 19, 2002, from 8 a.m. to 4:15 p.m.

Location: The public workshop will be held at the University Plaza Hotel, 3110 Olentangy River Rd., Columbus, OH.

Contact: Marie Falcone, Industry and Small Business Representative, Food and Drug Administration, rm. 900, U.S. Customhouse, 200 Chestnut St., Philadelphia, PA 19106, 215-597-2120, ext. 4003, FAX 215-597-5798, e-mail: mfalcone@ora.fda.gov.

For registration information contact: Julie Townsend, 110 Parker Food Science and Technology Building, Ohio State University, 2015 Fyffe Rd., Columbus, OH 43210, e-mail: townsend.57@osu.edu, telephone 614-292-6281, FAX 614-292-2859. Send registration information (including name, title, firm name, address, telephone, and fax number) and the $90.00 registration fee made payable to Ohio State University to the Registrar Julie Townsend (address above). Electronic registration for this workshop is available at http://fst.osu.edu/recall.htm. The Registrar will also accept payment by Visa or Mastercard. Attendees are responsible for their own accommodations.

To make reservations at the University Plaza Hotel at the FDA Food Security and Recalls Workshop rate of $75.00 (single) or $90.00 (double), contact the hotel at 877-677-5292 or 614-267-7461 before October 28, 2002. The workshop registration fee will be used to offset the expenses of hosting the conference, including meals, refreshments, meeting rooms, and materials. Space is limited, therefore interested parties are encouraged to register early. Limited onsite registration may be available. Please arrive early to ensure prompt registration.

If you need special accommodations due to a disability, please contact Marie Falcone at least 7 days in advance of the workshop.

SUPPLEMENTARY INFORMATION: The Food Security and Recalls Workshop helps fulfill the Department of Health and Human Services' and FDA's important mission to protect the public health by preventing and countering terrorism related to the nation's food supply. FDA has made providing security guidance and information to the food industry a high priority.

The workshop will help to implement the objectives of section 406 of the FDA Modernization Act (21 U.S.C. 393(b) and (f)) and the FDA Plan for Statutory Compliance, which includes working more closely with stakeholders and ensuring access to needed scientific and technical expertise. The workshop will also further the goals of the Small Business Regulatory Enforcement Fairness Act (Public Law 104-121) by providing outreach activities directed to small businesses.

Dated: October 10, 2002.
Margaret M. Dotzel,
Associate Commissioner for Policy.

[FR Doc. 02-26618 Filed 10-17-02; 8:45 am]

BILLING CODE 4160-01-S